DEPARTMENT OF THE TREASURY

Submission for OMB Review; Comment Request

July 18, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before August 22, 2011 to be assured of consideration.

Internal Revenue Service (IRS)

OMB Number: 1545-1626.

Type of Review: Extension without change of a currently approved collection.

Title: U.S. Return of Income for Electing Large Partnerships (Form 1065- B), Partner's Share of Income (Loss) From an Electing Large Partnership (Schedule K-1).

Forms: 1065-B and related schedules.

Abstract: Code sections 771-777 allow large partnerships to elect to file a simplified return which requires fewer items to be reported to partners.

Respondents: Private sector: Businesses or other for-profits.

Estimated Total Burden Hours: 487,225.

OMB Number: 1545-2200.

Type of Review: Extension without change of a currently approved collection.

Title: Form 8944, Preparer Hardship Waiver Request; Form 8948, Preparer Explanation for Not Filing Electronically.

Forms: 8944 and 8948.

Abstract: Specified tax return preparers use Form 8944 to request an undue hardship waiver from the section 6011(e)(3) requirement to electronically file returns of income tax imposed by subtitle A on individuals, estates, or trusts. A specified tax return preparer may be required by law to e-file certain covered returns that can be filed electronically. There are exceptions to this requirement. Form 8948 is used to explain which exception applies when a covered return is prepared and filed on paper.

Respondents: Private sector: Businesses or other for-profits.

Estimated Total Burden Hours: 18,270,900.

Bureau Clearance Officer: Yvette Lawrence, Internal Revenue Service, 1111 Constitution Avenue, NW., Washington, DC 20224; (202) 927-4374.

OMB Reviewer: Shagufta Ahmed, Office of Management and Budget, New Executive Office Building, Room 10235, Washington, DC 20503; (202) 395-7873.

Dawn D. Wolfgang,
Treasury PRA Clearance Officer.

[FR Doc. 2011-18378 Filed 7-20-11; 8:45 am]

BILLING CODE 4830-01-P